DEPARTMENT OF HEALTH AND HUMAN SERVICES

Administration for Children and Families

Proposed Information Collection Activity; Comment Request

Proposed Projects:

Title: Child Care Report for High Performance Bonus.

OMB No.: 0970-0255.

Description: The Personal Responsibility and Work Opportunity Reconciliation Act of 1996, Pub. L. 104-193, established the Temporary Assistance for Needy Families (TANF) program under title IV-A of the Social Security Act (the Act), 42 U.S.C. 401 et seq. Section 403(a)(4) of the Act requires the Secretary to award bonuses to “high performing States.” (Indian tribes are not eligible for these bonuses.) The term “high performing States” is defined in section 403(a)(4) of the Act to mean a State that is most successful in achieving the purposes of the TANF program as specified in section 401(a) of the Act.

The final rule covering the TANF high performance bonuses to States in FY 2002 and beyond was published August 30, 2000 (65 FR 52814) followed by an interim final rule published May 10, 2001 (66 FR 23854). The final and interim final rules set forth how the Child Care Bureau (CCB) will compute scores and rank States won the three components, i.e., Accessibility, Affordability, and Quality, that comprise the child care measure.

In FY 2002, CCB measured State performance on a composite ranking of two components, i.e., Accessibility and Affordability (based on FY 2001 performance data). No additional reporting burden was required since the data/information for the Accessibility and Affordability components are reported under the Child Care Development Fund program (ACF Reports 800 and 801). However, there was a reporting burden (related to the Quality component) for the information States submitted if they wished to compete on the child care measure beginning in FY 2003 and again in FY 2004 (based on FY 2002 and FY 2003 performance data, respectively). The same requirements must be met for States wishing to compete on the child care measure for FY 2005 (based on FY 2004 performance data). The information includes:

(1) All age-specific rates for children 0-13 years of age reported by the child day care centers and family day care homes responding to the State's market rate survey; and

(2) The provider's county or, if the State uses multi-county regions to measure market rates or set maximum payment rates, the administrative region.

Respondents: States, the District of Columbia, and Territories including Puerto Rico, Guam, the Virgin Islands, American Samoa, and the Northern Marianna Islands.

Annual Burden Estimates
Instrument | Number of respondents | Number of responses per respondent | Average burden hours per response | Total burden hours
ACF-801 | 56 | 0.5 | 40 | 1,120

Estimated Total Annual Burden Hours. 1,120.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 17, 2004.
Robert Sargis,
Reports Clearance Officer.

[FR Doc. 04-25994 Filed 11-23-04; 8:45 am]

BILLING CODE 4184-01-M